ENVIRONMENTAL PROTECTION AGENCY

[EPA-HQ-OECA-2014-0056; FRL-9975-05-OEI]

Information Collection Request Submitted to OMB for Review and Approval; Comment Request; NESHAP for Shipbuilding and Ship Repair Facilities—Surface Coating (Renewal)

AGENCY: Environmental Protection Agency (EPA).

ACTION: Notice.

SUMMARY: The Environmental Protection Agency (EPA) has submitted an information collection request (ICR)—NESHAP for Shipbuilding and Ship Repair Facilities—Surface Coating, EPA ICR Number 1712.10, OMB Control Number 2060-0330, to the Office of Management and Budget (OMB) for review and approval in accordance with the Paperwork Reduction Act. This is a proposed extension of the ICR, which is currently approved through April 30, 2018. Public comments were requested previously, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 21, 2018.

ADDRESSES: Submit your comments, referencing Docket ID Number EPA-HQ-OECA-2014-0056, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online either at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Shipbuilding and Ship Repair Facilities—Surface Coating were amended on November 21, 2011 to finalize the residual risk and technology review by re-adopting existing MACT standards, eliminated the startup, shutdown, and malfunction (SSM) exemption, removed SSM plan requirement, and revised SSM-associated recordkeeping and reporting requirements for periods of malfunctions. The shipbuilding and ship repair industry consists of establishments that build, repair, repaint, convert and alter ships which are marine or fresh-water vessels used for military or commercial operations. These regulations apply to only the shipbuilding and repair surface coating operations that occur at facilities that are major sources of hazardous air pollutants (HAPs). New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. This information is being collected to assure compliance with 40 CFR part 63, subpart II.

Form Numbers: None.

Respondents/affected entities: Owners or operators of shipbuilding and ship repair facilities.

Respondent's obligation to respond: Mandatory (40 CFR part 63, subpart II).

Estimated number of respondents: 56 (total).

Frequency of response: Initially, occasionally, and semiannually.

Total estimated burden: 28,700 hours (per year). Burden is defined at 5 CFR 1320.3(b).

Total estimated cost: $3,010,000 (per year), includes $0 annualized capital or operation & maintenance costs.

Changes in the Estimates: There is an increase of 106 hours in the total estimated respondent burden compared with the ICR currently approved by OMB. This adjustment in the burden occurred because this ICR assumes all existing respondents will have to familiarize with the regulatory requirements each year.

Courtney Kerwin,
Director, Regulatory Support Division.

[FR Doc. 2018-08334 Filed 4-19-18; 8:45 am]

BILLING CODE 6560-50-P